INTERNATIONAL TRADE COMMISSION

[Investigation No. 337-TA-1324]

Certain Mobile Electronic Devices; Notice of Commission Decision Not To Review an Initial Determination Terminating the Investigation Based on Settlement; Termination of the Investigation

AGENCY: U.S. International Trade Commission.

ACTION: Notice.

SUMMARY: Notice is hereby given that the U.S. International Trade Commission has determined not to review an initial determination (“ID”) (Order No. 35) of the presiding Administrative Law Judge (“ALJ”) terminating the investigation in its entirety based on settlement. The investigation is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 22, 2022, the Commission instituted this investigation under section 337 of the Tariff Act of 1930, as amended, 19 U.S.C. 1337 (“section 337”), based on a complaint filed by Maxell, Ltd. of Kyoto, Japan (“Complainant”). See 87 FR 51445-46 (Aug. 22, 2022). The complaint, as supplemented, alleges a violation of section 337 based upon the importation into the United States, the sale for importation, and the sale within the United States after importation of certain mobile electronic devices by reason of infringement of certain claims of U.S. Patent Nos. 7,199,821; 7,324,487; 8,170,394 (“the '394 patent”); 8,982,086; 10,129,590 (“the '590 patent”); and 10,244,284 (“the '284 patent”). The notice of investigation names Lenovo Group Ltd. of Beijing, China; Lenovo (United States) Inc. of Morrisville, North Carolina; and Motorola Mobility LLC of Libertyville, Illinois (collectively, “Respondents”) as respondents in the investigation. See id. The Office of Unfair Import Investigations (“OUII”) is also a party to the investigation. See id.

On March 6, 2023, the Commission partially terminated the investigation as to the '590 and '284 patents based on the withdrawal of the complaint as to those patents. See Order No. 16 (Feb. 6, 2023), unreviewed by Comm'n Notice (Mar. 6, 2023). On May 15, 2023, the Commission partially terminated the investigation as to the '394 patent based on the withdrawal of the complaint as to that patent. See Order No. 22 (Apr. 13, 2023), unreviewed by Comm'n Notice (May 15, 2023).

On July 17, 2023, Complainant and Respondents jointly moved to terminate the investigation in its entirety based on settlement. On July 20, 2023, OUII filed a response in support of the joint motion.

On July 26, 2023, the ALJ issued the subject ID (Order No. 35) granting the joint motion to terminate the investigation based on settlement. The ID finds that the joint motion complies with Commission Rules 210.21(a), (b) (19 CFR 210.21(a), (b)). See ID at 1-2. Specifically, the ID notes that the joint motion includes confidential and public copies of the settlement agreement. See id. at 2. In addition, the motion states that “there are no other agreements, written or oral, express or implied, relating to the subject matter of this Investigation.” See id. Furthermore, in accordance with Commission Rule 210.50(b)(2) (19 CFR 210.50(b)(2)), the ID finds “no evidence of any adverse impact on the public interest from termination of this investigation by settlement.” See id.

No petition for review of the subject ID was filed.

The Commission has determined not to review the subject ID. The investigation is terminated.

The Commission's vote for this determination took place on August 17, 2023.

The authority for the Commission's determination is contained in section 337 of the Tariff Act of 1930, as amended (19 U.S.C. 1337), and in part 210 of the Commission's Rules of Practice and Procedure (19 CFR part 210).

By order of the Commission.
Issued: August 18, 2023.
Lisa Barton,
Secretary to the Commission.

[FR Doc. 2023-18122 Filed 8-22-23; 8:45 am]

BILLING CODE 7020-02-P